DEPARTMENT OF DEFENSE

Office of the Secretary

Defense Science Board

AGENCY: Department of Defense.

ACTION: Notice of Advisory Committee Meeting.

SUMMARY: The Defense Science Board Task Force on Management Oversight of Acquisition Organizations will meet in open session on January 31-February 1, 2005, at SAIC, 4001 N. Fairfax Drive, Arlington, VA. This Task Force should assess whether all major acquisition organizations within the Department have adequate management and oversight processes, including what changes might be necessary to implement such processes where needed.

The mission of the Defense Science Board is to advise the Secretary of Defense and the Under Secretary of Defense for Acquisition, Technology & Logistics on scientific and technical matters as they affect the perceived needs of the Department of Defense. At these meetings, the Defense Science Board Task Force will examine the oversight function with respect to Title 10 and military department regulations to ensure that proper checks and balances exist. The Task Force will review whether simplification of the acquisition structure could improve both efficiency and oversight.

FOR FURTHER INFORMATION CONTACT: LTC Scott Dolgoff, USA, Defense Science Board, 3140 Defense Pentagon, Room 3D865, Washington, DC 20301-3140, via e-mail at scott.dolgoff@osd.mil, or via phone at (703) 695-4158.

SUPPLEMENTARY INFORMATION: Members of the public who wish to attend the meeting must contract LTC Dolgoff no later than January 24, 2005, for further information about admission as seating is limited. Additionally, those who wish to make oral comments or deliver written comments should also request to be scheduled, and submit a written text of the comments by January 26, 2005, to allow time for distribution to Task Force members prior to the meeting. Individual oral comments will be limited to five minutes, with the total oral comment period not exceeding 30 minutes.

Dated: January 18, 2005.
Jeannette Owings-Ballard,
OSD Federal Register Liaison Officer, Department of Defense.

[FR Doc. 05-1465 Filed 1-26-05; 8:45 am]

BILLING CODE 5001-06-M